DEPARTMENT OF THE INTERIOR

Fish and Wildlife Service

[FWS-R4-R-2009-N0030; 40136-1265-0000-S3]

Cross Creeks National Wildlife Refuge, Stewart County, TN

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Cross Creeks National Wildlife Refuge (NWR) for public review and comment. In this Draft CCP/EA, we describe the alternative we propose to use to manage this refuge for the 15 years following approval of the Final CCP.

DATES: To ensure consideration, we must receive your written comments by June 1, 2009.

ADDRESSES: Send comments, questions, and requests for information to: John T. Taylor, Refuge Manager, Tennessee NWR, 3006 Dinkins Lane, Paris, TN 38242. The Draft CCP/EA may be accessed and downloaded from the Service's Internet Site: http://southeast.fws.gov/planning.

FOR FURTHER INFORMATION CONTACT: John T. Taylor; telephone: 731/642-2091; fax: 731/644-3351; e-mail: john_taylor@fws.gov.

SUPPLEMENTARY INFORMATION:

Introduction

With this notice, we continue the CCP process for Cross Creeks NWR. We started the process through a notice in the Federal Register on January 3, 2007 (72 FR 143).

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

CCP Alternatives, Including Our Proposed Alternative

We developed four alternatives for managing the refuge and chose Alternative D as the proposed alternative. A full description of each alternative is in the Draft CCP/EA. We summarize each alternative below.

Alternative A—Current Management (No Action)

In general, Alternative A would maintain current management direction, that is, the refuge's habitats and wildlife populations would continue to be managed as they have in recent years. Public use patterns would remain relatively unchanged from those that exist at present.

We would continue to provide adequate foraging habitats to meet the needs of 33,100 ducks for 110 days and other habitats that are needed for loafing, resting, roosting, molting, and other needs. We would also continue to provide adequate foraging habitats to meet the needs of 15,400 migratory Canada geese for 90 days, and continue to provide sanctuary for wintering waterfowl and other migratory birds from November 15 to March 15.

We would work with volunteers to provide a minimum of 20 nesting boxes in accordance with the 2003 Regional Wood Duck Management Guidelines. We would continue to work with partners to conduct the Christmas bird count and the North American migration count (in conjunction with International Migratory Bird Day).

We would continue to protect all Federally listed species under the Endangered Species Act. Under this alternative, there would be no active management of marsh birds, shorebirds, colonial nesting waterbirds, and non-game species. The control of problem beavers would continue under this alternative on a limited basis.

The staff, working with volunteers, would continue to passively manage about 150 acres as moist soil, with limited water management and control of invasive species. We would continue to provide other habitats, such as mudflats, native submerged and emergent aquatic vegetation, flooded woodlands, beaver ponds, and open water, that provide food resources. We would continue cooperative farming of corn, milo, millet, soybeans, and wheat on 1,200-1,300 acres to benefit waterfowl and other species. We would also continue limited annual spraying of aquatic plants (e.g., alligatorweed, spatterdock, and parrot feather), as well as conduct mowing and disking as needed of certain upland plants.

Under Alternative A, there would continue to be no active management of the refuge's forests, scrub/shrub habitat, and warm season grasses. There would be a reduced ability to manage water because of clogged structures due to beavers or aquatic plants, neglected units (restricted by probable sedimentation in channels), and the timing of the operations' schedule for Lake Barkley.

We would continue to provide visitor services under the existing Public Use Plan, which was approved in 1985. We would continue to allow managed, limited hunting of deer, turkey, squirrel, and resident Canada goose. We would also continue to provide quality fishing and compatible water-related recreation programs on 3,260 acres. We would continue to offer opportunities for wildlife observation and wildlife photography throughout the refuge, accessible along the refuge road system from March 16 to November 14. This alternative would add a wildlife observation deck next to the visitor center. We would continue to provide environmental education services to the public, including limited visits to schools, environmental education workshops, and on- and off-refuge environmental education programs. We would continue to maintain the kiosk outside the visitor center and exhibits in the visitor center and on the Woodpecker Interpretive Trail.

We would maintain a staff size of four full-time positions, including the refuge manager, office assistant, maintenance mechanic, and equipment operator. We would maintain existing facilities, including headquarters, visitor center, maintenance building and yard, roads, gates, and equipment (e.g., road grader, tractors, dozers, and backhoe).

Alternative B—Public Use Emphasis

Alternative B would emphasize enhanced public use on the refuge. Additional efforts and expenditures would be made to expand the public use program, visitor facilities, and overall level of public use opportunities. Special emphasis would be placed on promoting the public uses identified in the Improvement Act (e.g., hunting, fishing, wildlife observation, wildlife photography, and environmental education and interpretation).

We would continue to provide adequate foraging habitats to meet the needs of 33,100 ducks for 110 days, and other habitats that are needed for loafing, resting, roosting, molting, and other needs. We would also continue to provide adequate foraging habitats to meet the needs of 15,400 migratory Canada geese for 90 days. We would work with volunteers to provide a minimum of 20 nesting boxes in accordance with the 2003 Regional Wood Duck Management Guidelines.

Under this alternative, there would be no active management of marsh birds. We would develop additional partnerships with non-governmental organizations and the public in efforts to inventory in certain habitats for shorebirds, colonial nesting waterbirds, landbirds, and non-game species.

We would continue to protect all federally listed species under the Endangered Species Act. We would use partners and volunteers to help determine the distribution and abundance of select listed species. The control of problem beavers would continue on a limited basis. In addition, we would control feral hogs and snakehead fish if these species appeared.

We would continue to provide other habitats, such as mudflats, native submerged and emergent aquatic vegetation, flooded woodlands, beaver ponds, and open water, that provide food resources, as well as habitats for loafing, resting, roosting, and molting. Under Alternative B, there would continue to be no active management of the refuge's forests, scrub/shrub habitat, and warm season grasses. We would continue cooperative farming of corn, milo, millet, soybeans, and wheat on 1,200-1,300 acres to benefit waterfowl and other species.

We would manage water to focus on providing sport fishing opportunities within the impoundments. Further, we would reduce moist-soil management efforts on 150 acres of impoundments, allowing for higher water levels to realize optimal fishing opportunities.

We would continue limited annual spraying of aquatic plants (e.g., alligatorweed, spatterdock, parrot feather, and Eurasian water milfoil), as well as conduct mowing and disking as needed of certain upland plants. We would develop additional partnerships with other agencies, non-governmental organizations, and the public in control efforts.

Within 5 years of CCP approval, we would draft, approve, and begin to implement a Visitor Services Plan. Alternative B would open portions of the refuge to additional hunting and/or increase quota limits for deer, turkey, squirrel, and Canada goose. Additionally, hunts for dove, rabbit, and raccoon would be added. We would provide quality fishing and compatible water-related recreation programs on 3,260 acres. This would be accomplished by adding adequate launching facilities and bank fishing areas and based on available resources, at least one pier would be added to accommodate anglers of all abilities.

We would continue to offer opportunities for wildlife observation and wildlife photography throughout the refuge, accessible along the refuge road system from March 16 to November 14. This alternative would add a wildlife observation deck next to the visitor center. During winter months, Alternative B would reopen the 1-mile auto tour route in the vicinity of the visitor center. Under Alternative B, we would continue to provide environmental education services to the public, including Earth Camp, visits to schools, environmental education workshops, and on- and off-site environmental education programs. We would expand the refuge's role as an outdoor classroom for both students and the general public. Within 5 years of CCP approval, the number of wildlife signs along the Woodpecker Interpretive Trail would be increased, and an interpretive kiosk would be developed for Elk Reservoir.

We would maintain a staff of seven full-time positions, including the refuge manager, refuge ranger, office assistant, maintenance mechanic, law enforcement officer, tractor operator, and equipment operator. Alternative B would replace the now separate visitor center and headquarters with one common building. We would maintain the existing equipment fleet and replace obsolete equipment as needed. There would be three additional portable toilets positioned along the road system.

Alternative C—Wildlife Management Emphasis

Alternative C would intensify and expand wildlife and habitat management on the refuge. This would increase benefits for wildlife species and fulfill the refuge purposes and goals. Public use opportunities would remain approximately as they are now.

We would provide foraging habitats to meet the needs of 44,400 ducks (25 percent more than Alternative A) for 110 days and other habitats that are needed for loafing, resting, roosting, molting, and other needs. We would also continue to provide adequate foraging habitats to meet the needs of 15,400 migratory Canada geese for 90 days, but would evaluate the need for foraging habitat every 5 years and adjust accordingly. We would continue to provide sanctuary, as in Alternative A, backed up by increased enforcement to reduce illegal disturbance and trespass.

We would determine the status of priority marsh bird species on the refuge. We would implement active shorebird management on at least one impoundment during fall migration. We would develop a baseline colonial waterbird inventory through systematic surveys. Similarly, we would conduct a baseline inventory of relative abundance, species richness, and distribution of landbirds. Within 10 years of CCP approval, we would develop and implement baseline inventories for non-game mammals, reptiles, amphibians, and invertebrates. We would continue to protect all Federally listed species under the Endangered Species Act, and would determine the distribution and abundance of all listed species.

Over the 15-year life of the CCP, we would manage game populations to maximize quality hunting opportunities, while maintaining habitat for Federal trust species. Working with volunteers, we would provide 50 properly located and maintained nesting boxes, brood rearing habitat, and feeding areas throughout the refuge. When necessary, control of invasive animal species, using approved techniques to help achieve refuge conservation goals and objectives, would occur.

Water management within the impoundments would be focused on migratory birds by providing adequate and reliable flooded habitat throughout the refuge, and assuring that water management capability could distribute water in a timely manner. This alternative would call for improving the moist-soil management program on at least 300 acres by expanding the invasive plant control program, water management capabilities, and the use of management techniques that set back plant succession. Increasing the acreage of other habitats, such as mudflats, native submerged and emergent aquatic vegetation, flooded woodlands, beaver ponds, and open water that provide food resources, as well as habitats for loafing, resting, roosting, and molting would occur under this alternative. We would obtain control of invasive species through active methods of removal, which would assist in reducing the infestation and eliminating populations whenever feasible.

Within 5 years of CCP approval, we would develop and begin to implement a Forest Management Plan that would aim to benefit nesting and migrating birds. Over the 15-year life of the CCP, we would explore the possibilities of managing for scrub/shrub habitat to benefit certain birds in suitable locations on the refuge. We would explore the potential benefits of planting and managing native warm season grasses on formerly farmed fields (up to 75 percent of existing cultivated acreage). Over the lifetime of the CCP, we would gradually phase out cooperative farming in favor of force-account or contract farming of wheat, corn, milo, and millet on 600 acres to meet wildlife foraging objectives.

We would continue to provide visitor services under the existing Public Use Plan, which was approved in 1985. Over the 15-year life of the CCP, we would manage game populations to maximize quality hunting opportunities, while maintaining habitat for Federal trust species. We would continue to provide quality fishing and compatible water-related recreation programs on 3,260 acres of the refuge. We would continue to offer opportunities for wildlife observation and wildlife photography throughout the refuge, accessible along the refuge road system from March 16 to November 14, but with the addition of a wildlife observation deck next to the visitor center. We would reduce refuge-facilitated environmental education activities for the public, both on- and off-refuge. We would continue to maintain the kiosk outside the visitor center and exhibits in the visitor center and on the Woodpecker Interpretive Trail.

We would maintain a staff of eight full-time positions, including refuge manager, office assistant, maintenance mechanic, assistant refuge manager, biologist, law enforcement officer, tractor operator, and equipment operator. We would maintain existing facilities, including headquarters, visitor center, maintenance building and yard, roads, gates, and equipment (e.g., road grader, tractors, dozers, and backhoe). We would install one pump and add farm and fire management equipment, such as corn planter, all-terrain vehicles, and pumper truck.

Alternative D—Enhanced Wildlife Management and Public Use Program (Proposed Management Action)

Alternative D would balance an enhanced wildlife management program with increased opportunities for public use. Wildlife and habitat management, as well as public use activities, would increase under this alternative.

We would provide foraging habitats to meet the needs of 33,100 to 44,400 ducks (25 percent more than Alternative A) for 110 days and other habitats that are needed for loafing, resting, roosting, molting, and other needs. We would also provide adequate foraging habitat to meet the needs of 15,400 migratory Canada geese for 90 days, but evaluate need for foraging habitat every 5 years and adjust accordingly. We would continue to provide sanctuary, as in Alternative A, backed up by increased enforcement to reduce illegal disturbance and trespass. In addition, within 5 years of CCP approval, we would seek opportunities for limited wildlife observation within the sanctuary. Working with volunteers, we would provide 20 to 50 properly located and maintained nesting boxes, brood rearing habitat, and feeding areas throughout the refuge.

We would determine the status of priority marsh bird species on the refuge. We would determine the status of shorebirds on the refuge and would implement active shorebird management on at least one impoundment during fall migration. We would also develop additional partnerships with other agencies, non-governmental organizations, and the public in an effort to inventory shorebirds in certain habitat management activities.

We would develop a baseline colonial waterbird inventory through systematic surveys. We would also develop additional partnerships as stated above in efforts to inventory colonial nesting waterbirds, landbirds, and non-game species.

Over the 15-year life of the CCP, we would manage game populations to maximize quality hunting opportunities, while maintaining habitat for Federal trust species. We would continue to protect all Federally listed species under the Endangered Species Act and would use partners and volunteers (when necessary) to determine the distribution and abundance of all listed species. When necessary, control of invasive animal species, using approved techniques to help achieve refuge conservation goals and objectives, would occur.

Alternative D would focus water management within the impoundments on migratory birds. This would be accomplished by providing adequate and reliable flooded habitat throughout the refuge and by assuring that water management capability could distribute water in a timely manner. We would also make a concerted effort to accommodate sport fishing opportunities where and when circumstances allow.

We would increase efforts to improve the moist-soil management program on at least 300 acres by expanding the invasive plant control program and water management capabilities. We would use management techniques that set back plant succession, but would also make a concerted effort to accommodate sport fishing opportunities. Increasing the acreage of other habitats, such as mudflats, native submerged and emergent aquatic vegetation, flooded woodlands, beaver ponds, and open water that provide food resources, as well as habitats for loafing, resting, roosting, and molting would occur.

Within 5 years of CCP approval, we would develop and begin to implement a Forest Management Plan that would aim to benefit nesting and migrating birds. Over the 15-year life of the CCP, we would explore the possibilities of managing for scrub/shrub habitat to benefit certain birds in suitable locations on the refuge. We would explore potential benefits of planting and managing native warm season grasses on formerly farmed fields (up to 75 percent of existing cultivated acreage). We would gradually phase out cooperative farming in favor of force-account or contract farming of wheat, corn, milo, and millet on 600 acres to meet wildlife foraging objectives.

We would obtain control of invasive species through active methods of removal. These methods would work towards reducing the infestation and eliminating populations whenever feasible. We would develop partnerships with other agencies, non-governmental organizations, and the public in efforts to control Eurasian water milfoil.

Within 5 years of CCP approval, we would draft, approve, and begin to implement a new Visitor Services Plan. We would also provide quality fishing and compatible water-related recreation programs on 3,260 acres of the refuge by furnishing adequate launching facilities, bank fishing areas, and contingent on funding, at least one pier to accommodate anglers of all abilities.

We would manage game populations to maximize quality hunting opportunities, while maintaining habitat for Federal trust species. We would continue to provide environmental education services to the public, including visits to schools, environmental education workshops, and on- and off-refuge environmental education programs. We would also expand the refuge's role as an outdoor classroom for students and the general public.

We would continue to offer opportunities for wildlife observation and wildlife photography throughout the refuge, accessible along the refuge road system from March 16 to November 14, but with the addition of a wildlife observation deck next to visitor center. Within 5 years of CCP approval, we would explore the feasibility of building a wildlife observation tower near Pool 1. Also within 5 years of CCP approval, we would increase the number of wayside signs, and would add wildlife signs along the Woodpecker Interpretive Trail, as well as develop an interpretive kiosk for Elk Reservoir.

We would maintain a staff of nine full-time positions, including the refuge manager, assistant refuge manager, refuge ranger (public use), office assistant, maintenance mechanic, biologist, law enforcement officer, tractor operator, and equipment operator. Under Alternative D, we would replace the now separate visitor center and headquarters with one common building. We would maintain the existing equipment fleet, replacing obsolete equipment as needed. There would be three additional portable toilets positioned along the road system. Finally, we would install three pumps and would add farm and fire management equipment, such as a corn planter, all-terrain vehicles, and a pumper truck.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 16, 2009.
Cynthia K. Dohner,
Acting Regional Director.

[FR Doc. E9-10033 Filed 4-30-09; 8:45 am]

BILLING CODE 4310-55-P